NATIONAL AERONAUTICS AND SPACE ADMINISTRATION

[Notice 01-001]

NASA Advisory Council (NAC), Aero-Space Technology Advisory Committee, Goals Subcommittee; Meeting.

AGENCY: National Aeronautics and Space Administration.

ACTION: Notice of meeting.

SUMMARY: In accordance with the Federal Advisory Committee Act, Pub. L. 92-463, as amended, the National Aeronautics and Space Administration announces a forthcoming meeting of the NASA Advisory Council, Aero-Space Technology Advisory Committee, Goals Subcommittee.

DATES: Tuesday, February 6, 2001, 8:30 a.m. to 5 p.m.; Wednesday, February 7, 2001, 8:30 a.m. to 5 p.m.

ADDRESSES: National Aeronautics and Space Administration, Room 9H40, 300 E Street, SW, Washington, DC 20546.

FOR FURTHER INFORMATION CONTACT: Ms. Mary-Ellen McGrath, Office of Aerospace Technology, National Aeronautics and Space Administration, Washington, DC 20546 (202/358-4729).

SUPPLEMENTARY INFORMATION: The meeting will be open to the public up to the seating capacity of the room. The agenda for the meeting is as follows:

Tuesday, February 6, 2001

—Aviation Noise Reduction Overview

—Noise Reduction Strategic Thrust Weights

—Noise Reduction Technologies Briefing

—NASA Progress Toward Noise Reduction Targets

—Noise Reduction Assessment, Priorities, and Directions

—Subcommittee Caucus

Wednesday, February 7, 2001

—Aviation Safety Overview

—Aviation Safety Strategic Thrust Weights

—Aviation Safety Technologies Briefing

—NASA Progress Toward Safety Targets

—Overall Safety Assessment, Priorities, and Directions

—Analysis Issues and Developments

—Subcommittee Caucus

In addition, for those interested, there will be an Integrated Space Transportation Plan (ISTP) presentation from 9 a.m.-11 a.m., February 8, 2001. The presentation will provide updated program long-term goals and directions. It is imperative that the meeting be held on these dates to accommodate the scheduling priorities of the key participants.

Beth M. McCormick,
Advisory Committee Management Officer, National Aeronautics and Space Administration.

[FR Doc. 01-432 Filed 1-5-01; 8:45 am]

BILLING CODE 7510-01-P